DEPARTMENT OF TRANSPORTATION

Federal Aviation Administration

14 CFR Part 39

[Docket No. FAA-2007-27983; Directorate Identifier 2006-NM-192-AD]

RIN 2120-AA64

Airworthiness Directives; Avions Marcel Dassault-Breguet Model Falcon 10 Airplanes

AGENCY: Federal Aviation Administration (FAA), Department of Transportation (DOT).

ACTION: Notice of proposed rulemaking (NPRM).

SUMMARY: The FAA proposes to supersede an existing airworthiness directive (AD) that applies to all Dassault Model Falcon 10 series airplanes. The existing AD currently requires revising the airplane flight manual (AFM) and installing a placard in the flight deck to prohibit flight into known or forecasted icing conditions. In lieu of the AFM revision and placard installation, that AD allows identifying the part number of each flexible hose in the wing (slat) anti-icing system, performing repetitive inspections of each hose for delamination, and performing corrective actions if necessary. That AD allows the following actions (also in lieu of the AFM revision and placard installation): new repetitive inspections for delamination at reduced intervals, corrective actions if necessary, and an additional AFM revision to include a statement to track flight cycles when the slat anti-icing system is activated. That AD also provides optional terminating action for the repetitive inspection requirements. This proposed AD would mandate the previously optional terminating action. This proposed AD results from a report of in-service delamination of a flexible hose in the slat anti-icing system at a time earlier than previously reported. We are proposing this AD to prevent collapse of the flexible hoses in the slat anti-icing system, which could lead to insufficient anti-icing capability and, if icing is encountered in this situation, could result in reduced controllability of the airplane.

DATES: We must receive comments on this proposed AD by May 24, 2007.

ADDRESSES: Use one of the following addresses to submit comments on this proposed AD.

• DOT Docket Web Site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Dassault Falcon Jet, P.O. Box 2000, South Hackensack, New Jersey 07606, for service information identified in this proposed AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed in the ADDRESSES section. Include the docket number “Docket No. FAA-2007-27983; Directorate Identifier 2006-NM-192-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On August 26, 2005, we issued AD 2005-18-14, amendment 39-14254 (70 FR 53540, September 9, 2005), for all Dassault Model Falcon 10 series airplanes. That AD requires revising the airplane flight manual (AFM) and installing a placard in the flight deck to prohibit flight into known or forecasted icing conditions. In lieu of the AFM revision and placard installation, that AD allows identifying the part number (P/N) of each flexible hose in the wing (slat) anti-icing system, performing repetitive inspections of each hose for delamination, and performing corrective actions if necessary. That AD allows the following actions (also in lieu of the AFM revision and placard installation): new repetitive inspections for delamination at reduced intervals, corrective actions if necessary, and an additional AFM revision to include a statement to track flight cycles when the slat anti-icing system is activated. That AD also provides an option to repetitively replace the existing flexible hoses with improved flexible hoses, which terminates the repetitive inspection requirements. That AD resulted from a report of in-service delamination of a flexible hose in the slat anti-icing system at a time earlier than previously reported. We issued that AD to prevent collapse of the flexible hoses in the slat anti-icing system, which could lead to insufficient anti-icing capability and, if icing is encountered in this situation, could result in reduced controllability of the airplane.

Actions Since Existing AD Was Issued

The preamble to AD 2005-18-14 explains that we considered the requirements “interim action” and were considering further rulemaking. The European Aviation Safety Agency (EASA), which is the Technical Agent for the Member States of the European Community, has since mandated the previously optional terminating action. We now have determined that further rulemaking is indeed necessary. This proposed AD follows from that determination.

Relevant Service Information

AD 2005-18-14 refers to Dassault Service Bulletin F10-313, dated August 10, 2005, as the appropriate source of service information for the optional terminating action. The manufacturer has since revised the service bulletin. Revision 1, dated May 10, 2006, advises of revised related maintenance documents and revised life limits for hoses having P/N FAL1007. The procedures in Revision 1 are the same as those in the original version of the service bulletin. Accomplishing the actions specified in the service information is intended to adequately address the unsafe condition. The EASA mandated the service information and issued EASA airworthiness directive 2006-0114, dated May 10, 2006, to ensure the continued airworthiness of these airplanes in the European Union.

FAA's Determination and Requirements of the Proposed AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

This proposed AD would supersede AD 2005-18-14. This proposed AD would retain the existing requirements except the requirement to report inspection results, and mandate the previously optional terminating action.

Costs of Compliance

The following table provides the estimated costs for U.S. operators to comply with this proposed AD, at an average hourly labor rate of $80.

Estimated Costs
Action | Work hours | Parts | Cost per airplane | Number of U.S.-registered airplanes | Fleet cost
AFM revision and placard installation (an option in AD 2005-18-14) | 1 | $0 | $80 | Up to 146 | Up to $11,680.
Detailed inspection (an option in AD 2005-18-14) | 1 | 0 | $80, per inspection cycle | Up to 146 | Up to $11,680, per inspection cycle.
Borescope inspection (an option in AD 2005-18-14) | 3 | 0 | $240, per inspection cycle | Up to 146 | Up to $35,040, per inspection cycle.
Hose replacement (new proposed action) | 8 | 880 | $1,520 | Up to 146 | Up to $221,920.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14254 (70 FR 53540, September 9, 2005) and adding the following new airworthiness directive (AD):

Avions Marcel Dassault-Breguet Aviation (AMD/BA): Docket No. FAA-2007-27983; Directorate Identifier 2006-NM-192-AD.

Comments Due Date

(a) The FAA must receive comments on this AD action by May 24, 2007.

Affected ADs

(b) This AD supersedes AD 2005-18-14.

Applicability

(c) This AD applies to all Avions Marcel Dassault-Breguet Model Falcon 10 airplanes.

Unsafe Condition

(d) This AD results from a report of in-service delamination of a flexible hose in the slat anti-icing system at a time earlier than previously reported. We are issuing this AD to prevent collapse of the flexible hoses in the slat anti-icing system, which could lead to insufficient anti-icing capability and, if icing is encountered in this situation, could result in reduced controllability of the airplane.

Compliance

(e) You are responsible for having the actions required by this AD performed within the compliance times specified, unless the actions have already been done.

Restatement of the Requirements of AD 2005-18-14

Repetitive Detailed Inspections, or Airplane Flight Manual (AFM) Revision and Placard Installation

(f) Within 14 days after April 26, 2005 (the effective date of AD 2005-07-23, which was superseded by AD 2005-18-14), perform the actions specified in either paragraph (f)(1) or (f)(2) of this AD:

(1) Revise the Limitations section of the Dassault Aviation Falcon 10 AFM, and install a placard in the flight deck, to include the following information:

“Flights into known or forecasted icing conditions are prohibited.”

The AFM revision may be done by inserting a copy of this AD into the AFM. Install the placard on the pedestal in clear view of the pilot.

(2) Determine the part number of each flexible hose installed in the slat anti-icing system, perform a detailed inspection of the internal walls of the hoses for delamination, and perform any applicable corrective action, by accomplishing all of the applicable actions specified in the Accomplishment Instructions of Dassault Alert Service Bulletin F10-A312, dated February 25, 2005. If the part number for any hose cannot be determined, before further flight, replace that hose with a hose having part number (P/N) FAL1005D. Any corrective action must be done before further flight. Repeat the detailed inspection thereafter at intervals not to exceed 60 flight cycles or 3 months, whichever is first, until the actions required by paragraph (i) of this AD are accomplished.

Note 1: When a statement identical to that in paragraph (f)(1) of this AD has been included in the general revision of the AFM, the general revision may be inserted into the AFM, and the copy of this AD may be removed from the AFM.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) For airplanes on which the actions described in paragraph (f)(1) of this AD are performed, doing the actions described in paragraph (f)(2) of this AD is terminating action for the requirements of paragraph (f)(1) of this AD. Once the initial detailed inspection specified in paragraph (f)(2) of this AD is performed, the AFM limitation and placard required by paragraph (f)(1) of this AD may be removed.

Borescope Inspections

(h) For airplanes not operated under the limitation in paragraph (f)(1) of this AD: Before the next 10 flight cycles in which the slat anti-icing system is activated after the effective date of this AD, do a borescope inspection of each flexible hose installed in the slat anti-icing system. Do all the inspections and any applicable corrective action (including replacing the hose with a new hose having P/N FAL1005D), by accomplishing all of the applicable actions specified in the Accomplishment Instructions of Dassault Alert Service Bulletin F10-A312, Revision 1, dated June 27, 2005. Any corrective action must be done before further flight. Repeat the inspection thereafter at intervals not to exceed 10 flight cycles in which the slat anti-icing system is activated. Doing this inspection terminates the repetitive inspection requirements of paragraph (f)(2) of this AD.

(i) For airplanes on which the actions described in paragraph (f)(1) of this AD are performed, doing the actions described in paragraph (h) of this AD is terminating action for the requirements of paragraph (f)(1) of this AD. Once the initial borescope inspection specified in paragraph (h) of this AD is performed, the AFM limitation and placard required by paragraph (f)(1) of this AD may be removed.

AFM Revision

(j) For airplanes not operated under the limitation in paragraph (f)(1) of this AD: Before further flight after the effective date of this AD, revise the Limitations section of the Dassault Aviation Falcon 10 AFM, to include the following information.

“After each flight in which the slat anti-ice system is activated, inform maintenance.”

The AFM revision may be done by inserting a copy of this AD into the AFM.

Note 3: When a statement identical to that in paragraph (j)(1) of this AD has been included in the general revision of the AFM, the general revision may be inserted into the AFM, and the copy of this AD may be removed from the AFM.

New Requirements of This AD

Hose Replacement

(k) Within 330 flight hours or 7 months after the effective date of this AD, whichever occurs first: Replace the flexible hoses installed in the slat anti-icing system with new hoses having P/N FAL1007, in accordance with the Accomplishment Instructions of Dassault Service Bulletin F10-313, Revision 1, dated May 10, 2006. This replacement terminates the requirements of paragraphs (f) through (j) of this AD. For airplanes previously operated under the limitation in paragraph (f)(1) of this AD: When the hoses have been replaced, the AFM limitation and placard required by paragraph (f)(1) of this AD may be removed. Repeat the hose replacement at intervals not to exceed 700 flight cycles.

(l) Replacement of a hose before the effective date of this service bulletin in accordance with Dassault Service Bulletin F10-313, dated August 10, 2005, is acceptable for compliance with the requirements of paragraph (k) of this AD.

Alternative Methods of Compliance (AMOCs)

(m)(1) The Manager, International Branch, ANM-116, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC approved previously in accordance with AD 2005-18-14 is approved as an AMOC for the corresponding provisions of this AD.

Related Information

(n) EASA airworthiness directive 2006-0114, dated May 10, 2006, also addresses the subject of this AD.

Issued in Renton, Washington, on April 16, 2007.
Ali Bahrami,
Manager, Transport Airplane Directorate, Aircraft Certification Service.

[FR Doc. E7-7741 Filed 4-23-07; 8:45 am]

BILLING CODE 4910-13-P